DEPARTMENT OF LABOR

Employee Benefits Security Administration

163rd Meeting of the Advisory Council on Employee Welfare and Pension Benefit Plans; Notice of Teleconference Meeting

Pursuant to the authority contained in Section 512 of the Employee Retirement Income Security Act of 1974 (ERISA), 29 U.S.C. 1142, the 163rd open meeting of the Advisory Council on Employee Welfare and Pension Benefit Plans (also known as the ERISA Advisory Council) will be held via teleconference on September 25, 2012.

The meeting will take place in C5521 Room 4, U.S. Department of Labor, 200 Constitution Avenue NW., Washington, DC 20210. Public access is available only in this room (i.e. not by telephone). The meeting will run from 10:00 a.m. to approximately 4:00 p.m. The purpose of the open meeting is to discuss reports/recommendations for the Secretary of Labor on the issues of (1) Managing Disability Risks in an Environment of Individual Responsibility; (2) Current Challenges and Best Practices Concerning Beneficiary Designations in Retirement and Life Insurance Plans; and (3) Examining Income Replacement During Retirement Years in a Defined Contribution Plan System. Descriptions of these topics are available on the Advisory Council page of the EBSA Web site at http://www.dol.gov/ebsa/aboutebsa/erisa_advisory_council.html.

Organizations or members of the public wishing to submit a written statement may do so by submitting 30 copies on or before September 18, 2012 to Larry Good, Executive Secretary, ERISA Advisory Council, U.S. Department of Labor, Suite N-5623, 200 Constitution Avenue NW., Washington, DC 20210. Statements also may be submitted as email attachments in text or pdf format transmitted to good.larry@dol.gov. It is requested that statements not be included in the body of an email. Statements deemed relevant by the Advisory Council and received on or before September 18 will be included in the record of the meeting and made available in the EBSA Public Disclosure Room, along with witness statements. Do not include any personally identifiable information (such as name, address, or other contact information) or confidential business information that you do not want publicly disclosed.

Individuals or representatives of organizations wishing to address the Advisory Council should forward their requests to the Executive Secretary or telephone (202) 693-8668. Oral presentations will be limited to ten minutes, time permitting, but an extended statement may be submitted for the record. Individuals with disabilities who need special accommodations should contact the Executive Secretary by September 18, 2012 at the address indicated.

Signed at Washington, DC this 22nd day of August, 2012.
Michael L. Davis,
Deputy Assistant Secretary, Employee Benefits Security Administration.

[FR Doc. 2012-21126 Filed 8-27-12; 8:45 am]

BILLING CODE 4510-29-P